DEPARTMENT OF TRANSPORTATION

Federal Railroad Administration

Notice of Application for Approval of Discontinuance or Modification of a Railroad Signal System or Relief from the Requirements of Title 49 Code of Federal Regulations Part 236

Pursuant to title 49 Code of Federal Regulations (CFR) part 235 and 49 U.S.C. 20502(a), the following railroads have petitioned the Federal Railroad Administration (FRA) seeking approval for the discontinuance or modification of the signal system or relief from the requirements of 49 CFR part 236 as detailed below.

Docket Number FRA-2004-17192

Applicant: Alaska Railroad Corporation, Mr. Russell J. Frazier, Director Signal and Telecommunications, P.O. Box 107500, Anchorage, Alaska 99501.

Alaska Railroad Corporation (ARR) seeks relief from the requirements of the Rules, Standard and Instructions, 49 CFR 236.110, to the extent that each test record, need not be signed by the person making the inspection or test, in lieu of implementing an electronic system to record and maintain signal inspection records that provide inherent security measures that uniquely identify the person as the author of the record. Once a record is entered and verified, it cannot be modified. In conjunction with this relief, ARR also requests the utilization of an electronic system for recording and maintaining applicable inspection and test records as defined in 49 CFR part 234, subject to approval by the Associate Administrator for Safety, as required by § 234.273.

Applicant's justification for relief: ARR believes that the electronic system will serve the best interest of ARR and the Federal and State Inspection Authorities that are required to inspect records, and anticipate the system will provide many benefits, including:

• Improved availability of test records

• Improved management reporting of compliance

• Improved consistency for filing records

• A reduction in the need for paper documentation

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on March 29, 2004.
Grady C. Cothen, Jr.,
Acting Associate Administrator for Safety.

[FR Doc. 04-7543 Filed 4-2-04; 8:45 am]

BILLING CODE 4910-06-P